SECURITIES AND EXCHANGE COMMISSION

[File No. 500-1]

RMD Technologies, Inc., Rockwall Holdings, Inc., Southmark Corp., Stargold Mines, Inc., Stelax Industries, Ltd., Stem Cell Innovations, Inc., and Surfect Holdings, Inc.; Order of Suspension of Trading

November 9, 2011.

It appears to the Securities and Exchange Commission that there is a lack of current and accurate information concerning the securities of RMD Technologies, Inc. because it has not filed any periodic reports since the period ended February 29, 2008.

It appears to the Securities and Exchange Commission that there is a lack of current and accurate information concerning the securities of Rockwall Holdings, Inc. because it has not filed any periodic reports since the period ended December 31, 2008.

It appears to the Securities and Exchange Commission that there is a lack of current and accurate information concerning the securities of Southmark Corp. because it has not filed any periodic reports since the period ended June 30, 1996.

It appears to the Securities and Exchange Commission that there is a lack of current and accurate information concerning the securities of Stargold Mines, Inc. because it has not filed any periodic reports since the period ended September 30, 2008.

It appears to the Securities and Exchange Commission that there is a lack of current and accurate information concerning the securities of Stelax Industries, Ltd. because it has not filed any periodic reports since the period ended September 30, 2007.

It appears to the Securities and Exchange Commission that there is a lack of current and accurate information concerning the securities of Stem Cell Innovations, Inc. because it has not filed any periodic reports since the period ended September 30, 2007.

It appears to the Securities and Exchange Commission that there is a lack of current and accurate information concerning the securities of Surfect Holdings, Inc. because it has not filed any periodic reports since the period ended December 31, 2008.

The Commission is of the opinion that the public interest and the protection of investors require a suspension of trading in the securities of the above-listed companies.

Therefore, it is ordered, pursuant to Section 12(k) of the Securities Exchange Act of 1934, that trading in the securities of the above-listed companies is suspended for the period from 9:30 a.m. E.S.T. on November 9, 2011, through 11:59 p.m. E.S.T. on November 22, 2011.

By the Commission.
Elizabeth M. Murphy,
Secretary.

[FR Doc. 2011-29413 Filed 11-9-11; 11:15 am]

BILLING CODE 8011-01-P